INTERNATIONAL TRADE COMMISSION

[Investigation No. 332-561]

Global Digital Trade I: Market Opportunities and Key Foreign Trade Restrictions; Notice of Correction Concerning Institution of Investigation and Scheduling of Hearing

AGENCY: U.S. International Trade Commission.

ACTION: Correction of notice.

SUMMARY: Correction is made to the March 23, 2017 deadline for filing pre-hearing briefs and statements in the Dates section of the notice which was published on February 10, 2017 (82 FR 10397). The date of the deadline for filing pre-hearing briefs and statements should be March 28, 2017.

Issued: March 16, 2017.
Lisa R. Barton,
Secretary to the Commission.

[FR Doc. 2017-05576 Filed 3-21-17; 8:45 am]

BILLING CODE 7020-02-P